DEPARTMENT OF ENERGY

Federal Energy Regulatory Commission

Combined Notice of Filings #1

Take notice that the Commission received the following electric corporate filings:

Docket Numbers: EC15-176-000.

Applicants: Beethoven Wind, LLC, NorthWestern Corporation.

Description: Joint Application of NorthWestern Corporation and Beethoven Wind, LLC for Authorization under Section 203 of the Federal Power Act and Request for Expedited Approval.

Filed Date: 7/24/15.

Accession Number: 20150724-5167.

Comments Due: 5 p.m. ET 8/14/15.

Take notice that the Commission received the following electric rate filings:

Docket Numbers: ER10-1257-005; ER10-1258-005.

Applicants: Wabash Valley Power Association, Inc., Wabash Valley Energy Marketing, Inc.

Description: Notice of Change of Status of Wabash Valley Power Association, Inc.

Filed Date: 7/24/15.

Accession Number: 20150724-5171.

Comments Due: 5 p.m. ET 8/14/15.

Docket Numbers: ER15-1218-001.

Applicants: Solar Star California XIII, LLC.

Description: Notice of Non-Material Change in Status of Solar Star California XIII, LLC.

Filed Date: 7/24/15.

Accession Number: 20150724-5161.

Comments Due: 5 p.m. ET 8/14/15.

Docket Numbers: ER15-1902-001.

Applicants: Southwest Power Pool, Inc.

Description: Tariff Amendment: 3043 Substitute Prairie Breeze Wind Energy II LLC GIA to be effective 5/26/2015.

Filed Date: 7/27/15.

Accession Number: 20150727-5037.

Comments Due: 5 p.m. ET 8/17/15.

Docket Numbers: ER15-1909-001.

Applicants: Kingfisher Wind, LLC.

Description: Tariff Amendment: Amended Certificate of Concurrence to be effective 6/30/2015.

Filed Date: 7/27/15.

Accession Number: 20150727-5074.

Comments Due: 5 p.m. ET 8/17/15.

Docket Numbers: ER15-2270-000.

Applicants: Thunder Spirit Wind, LLC.

Description: Baseline eTariff Filing: Application for Market-Based Rate Authorization to be effective 7/25/2015.

Filed Date: 7/24/15.

Accession Number: 20150724-5135.

Comments Due: 5 p.m. ET 8/14/15.

Docket Numbers: ER15-2271-000.

Applicants: Arizona Public Service Company.

Description: Tariff Cancellation: Rate Schedule Nos. 264 and 268 Cancellation to be effective 9/23/2015.

Filed Date: 7/24/15.

Accession Number: 20150724-5144.

Comments Due: 5 p.m. ET 8/14/15.

Docket Numbers: ER15-2272-000.

Applicants: California Independent System Operator Corporation.

Description: Petition of the California Independent System Operator Corporation for Market Power Mitigation Authority.

Filed Date: 7/24/15.

Accession Number: 20150724-5168.

Comments Due: 5 p.m. ET 8/14/15.

Docket Numbers: ER15-2273-000.

Applicants: PJM Interconnection, L.L.C.

Description: § 205(d) Rate Filing: Original Service Agreement Nos. 4213, 4216; Queue Nos. AA1-134, AA1-139 to be effective 6/25/2015.

Filed Date: 7/27/15.

Accession Number: 20150727-5083.

Comments Due: 5 p.m. ET 8/17/15.

Docket Numbers: ER15-2274-000.

Applicants: NorthWestern Corporation.

Description: Initial rate filing: SA 745—Engineering & Procurement Agreement with Express Pipeline LLC to be effective 7/28/2015.

Filed Date: 7/27/15.

Accession Number: 20150727-5104.

Comments Due: 5 p.m. ET 8/17/15.

Docket Numbers: ER15-2275-000.

Applicants: Turner Energy, LLC.

Description: Tariff Cancellation: Cancel Tariff to be effective 9/26/2015.

Filed Date: 7/27/15.

Accession Number: 20150727-5109.

Comments Due: 5 p.m. ET 8/17/15.

Docket Numbers: ER15-2276-000.

Applicants: Alabama Power Company.

Description: § 205(d) Rate Filing: Southern Power (Pawpaw Solar) LGIA Filing to be effective 7/13/2015.

Filed Date: 7/27/15.

Accession Number: 20150727-5121.

Comments Due: 5 p.m. ET 8/17/15.

Docket Numbers: ER15-2277-000.

Applicants: Alabama Power Company.

Description: § 205(d) Rate Filing: Southern Power (Taylor County Solar Facility I—143MW) LGIA Filing to be effective 7/13/2015.

Filed Date: 7/27/15.

Accession Number: 20150727-5125.

Comments Due: 5 p.m. ET 8/17/15.

Docket Numbers: ER15-2278-000.

Applicants: PJM Interconnection, L.L.C., American Transmission Systems, Incorporated, West Penn Power Company, Trans-Allegheny Interstate Line Company.

Description: § 205(d) Rate Filing: ATSI submits Original SA Nos 4228, 4229, 4230 & Revised SA No. 2852 to be effective 8/31/2015.

Filed Date: 7/27/15.

Accession Number: 20150727-5135.

Comments Due: 5 p.m. ET 8/17/15.

Docket Numbers: ER15-2279-000.

Applicants: Alcoa Power Generating Inc.

Description: § 205(d) Rate Filing: Request for Authorization to Make MBR Sales of Operating Reserves to be effective 9/28/2015.

Filed Date: 7/27/15.

Accession Number: 20150727-5137.

Comments Due: 5 p.m. ET 8/17/15.

Docket Numbers: ER15-2280-000.

Applicants: Alcoa Power Marketing LLC.

Description: § 205(d) Rate Filing: Request for Authorization to Make MBR Sales of Operating Reserves to be effective 9/28/2015.

Filed Date: 7/27/15.

Accession Number: 20150727-5140.

Comments Due: 5 p.m. ET 8/17/15.

Docket Numbers: ER15-2281-000.

Applicants: Nevada Power Company.

Description: § 205(d) Rate Filing: Volume No. 11 Market Based Rate Tariff Amendments to be effective 9/26/2015.

Filed Date: 7/27/15.

Accession Number: 20150727-5158.

Comments Due: 5 p.m. ET 8/17/15.

Docket Numbers: ER15-2282-000.

Applicants: Sierra Pacific Power Company.

Description: § 205(d) Rate Filing: Volume 7 Market Based Rate Tariff Amendments to be effective 7/27/2015.

Filed Date: 7/27/15.

Accession Number: 20150727-5162.

Comments Due: 5 p.m. ET 8/17/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 27, 2015.
Nathaniel J. Davis, Sr.,
Deputy Secretary.

[FR Doc. 2015-18961 Filed 7-31-15; 8:45 am]

BILLING CODE 6717-01-P